Environmental Protection Agency

[ER-FRL-6646-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

Draft EISs

ERP No. D-AFS-J65392-MT Rating EC2, Helena National Forest Noxious Weed Treatment Project, Implementation, Lewis and Clark, Powell, Jefferson, Broadwater and Meagher Counties, MT.

Summary: EPA supports integrated weed management to control noxious weeds. However, EPA expressed environmental concerns regarding adequate protection measures to reduce herbicide transport to surface and ground water and to protect public health. The final EIS should address those issues and include monitoring in selected watersheds.

ERP No. D-AFS-J65394-MT Rating EC2, Basin Creek and Blacktail Hazardous Watershed Fuels Reduction Project, Implementation, Highland Mountains, Butte Ranger District, Beaverhead-Deerlodge National Forest, Butte-Silver Bow County, MT.

Summary: EPA supports the need to reduce hazardous fuels and firerisk and protect the Basin Creek Municipal watershed for the City of Butte. However, EPA expressed environmental concerns with potential adverse impacts to threatened lynx.

ERP No. D-AFS-L65433-OR Rating EC2, North Fork Burnt River Mining Project, Proposal for Mineral Plans of Operation, Implementation, Wallowa-Whitman National Forest, Unity Ranger District, Whitman Unit, Blue Mountains, Town of Unity, Baker County, OR.

Summary: EPA expressed environmental concerns regarding impacts from the proposed action on water quality. Mining activities may contribute to increased temperature and sediment on 303(d) listed streams and may result in additional impaired water bodies. EPA recommends that the EIS explain how water quality will be protected and improved. Also, the Plan of Operation should be amended to include any future Total Maximum Daily Load requirements if applicable.

ERP No. D-AFS-L65439-OR Rating EC2, Monument Fire Recovery Project, Whitman Unit—Wallowa—Whitman National Forest (WWNF) Timber Harvest of Fire Killed/Dying Trees, Reforestation, Recovery of Herbaceous, Native Vegetation and Maintenance or Improvement of Water Quality, Implementation, Baker County, OR.

Summary: EPA expressed environmental concerns with potential adverse impacts to water quality and suggests the Final EIS include mitigation measures and identify water quality limited waterbodies in the project area. EPA also expressed concerns with adverse impacts to habitat for primary cavity excavator bird species from harvest activities.

ERP No. D-BLM-L65422-00 Rating EO2, Upper Klamath River Management Plan, Resource Management Plan Amendments, Implementation, Upper Klamath River stretch between Lake Ewauna, OR, south to Irongate Dam in CA.

Summary: EPA expressed environmental objections with alternatives that will not meet water quality standards, and may adversely impact threatened and endangered species. The final EIS should fully disclose impacts to wetlands, provide additional information on consultation with Native American tribes and fully assess potential environmental justice impacts. EPA requested that the final evaluate an alternative that meets water quality standards.

ERP No. D-FHW-F40417-WI Rating EC2, WI-83 Highway Improvements, County NN in Mukwonago to WI-16 in Hartland, Funding and U.S. Army COE Section 404 Permit Issuance, Waukesha County, WI.

Summary: EPA has identified environmental concerns with the proposed project relating to impacts on trout habitat, Scuppernong Creek, Blanding's Turtle and air quality. EPA is also concerned about the adequacy of the information in the DEIS regarding wetlands.

ERP No. D-NOA-E91014-00 Rating EC2, Generic Essential Fish Habitat Amendment to the Fishery Management Plans of the Gulf of Mexico (GOM) for Shrimp, Red Drum, Reef Fish, Stone Crab, Coral and Coral Reef, Spiny Lobster Fisheries of the GOM and South Atlantic Coastal Migratory Pelagic Resources of the Gulf of Mexico and South Atlantic.

Summary: EPA expressed environmental concern that the preferred alternative did not protect regions which comprise the bulk of the EFH habitats within the 100 fathom isobath. EPA believes that the proposed action would be substantially improved if marine protected areas, habitat/reef creation and rotational strategies were considered as EFH management measures.

ERP No. D-USN-K11112-CA Rating EC2, Tertiary Treatment Plant and Associated Facilities Construction and Operation, Implementation, Marine Corps Base Camp Pendleton, San Diego County, CA.

Summary: EPA raised environmental concerns that the Proposed Action did not incorporate ground water recharge or reuse/treatment wetland components, which could benefit the Santa Margarita River and its riparian ecosystem. EPA raised concerns that potentially feasible mitigation may not be presented because impacts are not significant, and that no mitigation is proposed for solid waste generated by the project, including demolition waste. EPA requested a discussion of whether polychlorinated biphenyls (PCBs) are present in materials at sewage treatment plants proposed for demolition.

ERP No. DB-NOA-B91021-00 Rating EC1, Northeast Multispecies Fishery Management Plan, Amendment 13, New Information concerning Management Alternatives and Impact Analysis, Adoption, Approval and Implementation, New England Management Council, ME, HH, VT, MA, RI, CT, NY, NJ, DE, MD, VA and NC.

Summary: EPA had environmental concerns that the document lacks information regarding alternatives selection and recommended additional information on possible essential fish habitat area closures.

ERP No. DF-NOA-L64015-AK Rating EC1, Programmatic EIS—Alaska Groundfish Fisheries, New Information concerning the Ecosystem and a Preferred Alternative, Fishery Management Plans for the Groundfish Fishery of the Gulf of Alaska and the Groundfish of the Bering Sea and Aleutian Islands Area, North Pacific Fishery Management Council, AK.

Summary: EPA expressed concerns regarding impacts to essential fish habitat and Steller sea lions and the need for clarification on the relationship between Magnuson-Stevens Act, the Fisheries Council and NEPA.

ERP No. D1-AFS-E65031-KY Rating EC1, Gray Mountain Coal Lease Land Use Analysis, Application for Leasing Tracts 3094Bb, 3049Be and 3049Az, Daniel Boone National Forest, Leslie County, KY.

Summary: EPA has environmental concerns with potential adverse impacts to water quality from the proposed coal lease, and other connected actions related to mining activities such as subsidence, erosion and sedimentation.

Final EISs

ERP No. F-AFS-K65255-CA Spalding Land Exchange Project, Proposed Land Exchange between Spalding Community Service District (SCSD) and Lassen National Forest (LNF), Special Use Permit, Lassen County, CA.

Summary: No formal comment letter was sent to the preparing agency.

ERP No. F-NOA-E91009-00 Dolphin and Wahoo Fishery Management Plan, Establishing Fishery Management Units, Stock Status Determination and Harvesting Restrictions, Initial Regulatory Flexibility Analysis, South Atlantic, Caribbean, and Gulf of Mexico.

Summary: While EPA has no objection to this proposed action, EPA believes the future NOAA EISs should further streamline the NEPA process in areas such as alternatives and the referencing of modifications to the draft EIS.

Dated: December 16, 2003.
Joseph C. Montgomery,
Director, NEPA Compliance Division, Office of Federal Activities.

[FR Doc. 03-31352 Filed 12-18-03; 8:45 am]

BILLING CODE 6560-50-P